DEPARTMENT OF THE INTERIOR

National Park Service

National Register of Historic Places; Notification of Pending Nominations

Nominations for the following properties being considered for listing in the National Register were received by the National Park Service before March 3, 2001. Pursuant to section 60.13 of 36 CFR part 60 written comments concerning the significance of these properties under the National Register criteria for evaluation may be forwarded to the National Register, National Park Service, 1849 C St. NW., NC400, Washington, DC 20240. Written comments should be submitted by April 4, 2001.

Carol D. Shull,
Keeper of the National Register Of Historic Places.

CALIFORNIA

Lassen County

Susanville Railroad Depot, 461 Richmond Rd., Susanville, 01000332

Los Angeles County

Blinn, Edmund, House, 160 N. Oakland Ave., Pasadena, 01000329

El Centro Market, 1040 Mission St., South Pasadena, 01000327

Hermitage, 2121 Monte Vista St., Pasadena, 01000328

Merrill, Samuel, House, (Residential Architecture of Pasadena: Influence of the Arts and Crafts Movement), 1285 N. Summit Ave., Pasadena, 01000330

Placer County

Woman's Club of Lincoln, 499 E St., Lincoln, 01000331

San Bernardino County

Highland Historic District, Roughly bounded by Cole and Nona Ave., Pacific and Church Sts., Highland, 01000333

FLORIDA

Manatee County

Shaw's Point Archeological District, Address Restricted, Bradenton, 01000342

Palm Beach County

Seaboard Air Line Dining Car—#6113, (Florida's Historic Railroad Resources MPS) 747 S. Dixie Hwy., Boca Raton, 01000334

Seaboard Air Line Lounge Car—6603, (Florida's Historic Railroad Resources MPS) 747 S. Dixie Hwy., Boca Raton, 01000335

LOUISIANA

Rapides Parish

Alexandria Garden District, Roughly bounded Marye St., Bolton Ave., White St., and Bayou Hynson, Alexandria, 01000336

MARYLAND

Carroll County

Appler—Englar House, 916 Winter's Church Rd., New Windsor, 01000338

McMurray—Frizzell—Aldridge Farm, 3708 Baker Rd., Westminster, 01000339

Cecil County

Lowe, Joshua, House, 35 New Bridge Rd., Rising Sun, 01000337

NORTH CAROLINA

Mecklenburg County

Frederick Apartments, 515 N. Church St., Charlotte, 01000341

Wake County

Green Level Historic District, (Wake County MPS) Jct. Green Level Church, Green Level West Rd., and Beaver Dam Rd., Cary, 01000340

SOUTH CAROLINA

Florence County

Claussen House, 5109 Old River Rd., Florence, 01000343

TENNESSEE

Carter County

Brooks, Rueben, Farmstead, 1548 Blue Springs Rd., Elizabethton, 01000344

WISCONSIN

Manitowoc County

St. Mary's Convent, (Colony of St. Gregory of Nazianzen TR) 300 S. Second Ave., Nazianz, 01000347

Oneida County

McCord Village, Address Restricted, Lynne, 01000346

Wood County

Wakely Road Bridge, Wakely Road over Wakely Creek, Saratoga, 01000345

[FR Doc. 01-6855 Filed 3-19-01; 8:45 am]

BILLING CODE 4310-70-P